DEPARTMENT OF HOMELAND SECURITY

Federal Emergency Management Agency

Agency Information Collection Activities: Proposed Collection; Comment Request

AGENCY: Federal Emergency Management Agency, DHS.

ACTION: Notice and request for comments.

SUMMARY: The Federal Emergency Management Agency, as part of its continuing effort to reduce paperwork and respondent burden, invites the general public and other Federal agencies to take this opportunity to comment on a proposed continuing information collection. In accordance with the Paperwork Reduction Act of 1995, this notice seeks comments concerning the certification of flood proof residential basements in Special Flood Hazard Areas.

SUPPLEMENTARY INFORMATION: The National Flood Insurance Program (NFIP), administered by the Federal Emergency Management Agency (FEMA), regulation 44 CFR 60.3, Floodplain Management Criteria for Flood-Prone Areas, ensures that buildings in communities participating in the NFIP, in Special Flood Hazard Areas (SFHAs), have their lowest floor elevations including basement at or above the Base Flood Elevation (the 100-year flood elevation). This requirement reduces the risks of flood hazards to new buildings in SFHAs and reduces insurance rates. However, FEMA regulation 44 CFR 60.6(c) allows communities to apply for an exception to permit and certify the construction of floodproofed residential basements in SFHAs. The certification must ensure that the community has demonstrated that that areas of special flood hazard, in which residential basements will be permitted, are subject to shallow and low velocity flooding and that there is adequate flood warning time to notify residents of impending flood. This certification allows the community to ensure that local floodplain management ordinances are met and allows property owners to receive a “discounted” flood insurance rate applicable to residential buildings with floodproofed basements.

Collection of Information

Title: Residential Basement Floodproofing Certificate.

Type of Information Collection: Revision of a currently approved collection.

OMB Number: 1660-0033.

Form Numbers: FEMA Form 81-78.

Abstract: FEMA Form 81-78 is only used in communities that have been granted an exception by FEMA to allow the construction of flood proof residential basements in Special Flood Hazard Areas, (SFHAs). Homeowners must have a registered professional engineer or architect complete FEMA Form 81-78 for development or inspection of a properly designed and constructed basement and certify that the basement design and methods of constructions are in accordance with floodplain management ordinances. In any case homeowners are responsible for the fees involved with these services. Homeowners also provide FEMA Form 81-8 to the insurance agent to receive discounted flood insurance under the NFIP.

Affected Public: Individuals of Households and Business or other for-profit.

Estimated Total Annual Burden Hours: 487.5 hours.

Annual Burden Hours
Project/activity (survey, form(s), focus group, worksheet, etc.) | Number of respondents | Frequency of responses | Burden hours per respondent | Annual responses | Total annual burden hours
| (A) | (B) | (C) | (A × B) | (A × B × C)
FEMA Form 81-78 | 150 | 1 | 3.25 | 150 | 487.5
Total | 150 | 1 | 3.25 | 150 | 487.5

Estimated Cost: The average cost paid to the architect or engineer employed by a homeowner to complete this form is $325 per homeowner. The total annual cost to homeowners is estimated to be $48,750. The estimated wage rate for an architect or engineer to complete FEMA Form 81-78 is $13,023.

Comments: Written comments are solicited to (a) Evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments must be submitted on or before March 26, 2007.

Interested persons should submit written comments to Chief, Records Management and Privacy, Information Resources Management Branch, Information Technology Services Division, Federal Emergency Management Agency, 500 C Street, SW., Room 316, Washington, DC 20472.

FOR FURTHER INFORMATION CONTACT: Contact Mary Chang, Insurance Examiner, Mitigation Division at 202-646-2790 for additional information. You may contact the Records Management Branch for copies of the proposed collection of information at facsimile number (202) 646-3347 or e-mail address: FEMA-Information-Collections@dhs.gov.

Dated: January 4, 2007.
John A. Sharetts-Sullivan,
Chief, Records Management and Privacy Information Resources Management Branch, Federal Emergency Management Agency, Department of Homeland Security.

[FR Doc. E7-890 Filed 1-22-07; 8:45 am]

BILLING CODE 0110-11-P